ENVIRONMENTAL PROTECTION AGENCY

[EPA-HQ-OAR-2011-0940; FRL-9497-9]

Agency Information Collection Activities; Proposed Collection; Comment Request; Reporting Requirements Under EPA's Climate Leaders Partnership (Renewal)

AGENCY: Environmental Protection Agency (EPA).

ACTION: Notice.

SUMMARY: In compliance with the Paperwork Reduction Act (PRA) (44 U.S.C. 3501 et seq.), this document announces that EPA is planning to submit a request to renew an existing approved Information Collection Request (ICR) (EPA ICR No. 2100.05) to the Office of Management and Budget (OMB) (OMB Control No. 2060-0532). This ICR is scheduled to expire on April 30, 2012. Before submitting the ICR to OMB for review and approval, EPA is soliciting comments on specific aspects of the proposed information collection as described below.

DATES: Comments must be submitted on or before January 30, 2012.

ADDRESSES: Submit your comments, identified by Docket ID No. EPA-HQ-OAR-2011-0940 by one of the following methods:

• http://www.regulations.gov: Follow the on-line instructions for submitting comments.

• Email: a-and-r-docket@epa.gov.

• Fax: (202) 566-9744.

• Mail: Environmental Protection Agency, EPA Docket Center, Air and Radiation Docket, Mailcode: 28221T, 1200 Pennsylvania Ave. NW., Washington, DC 20460.

• Hand Delivery: EPA Docket—Public Reading Room, EPA West Building, Room 3334, 1301 Constitution Avenue NW, Washington, DC 20004. Such deliveries are accepted only during the Docket's normal hours of operation, and special arrangements should be made for deliveries of boxed information.

Instructions: Direct your comments to Docket ID No. EPA-HQ-OAR-2011-0940. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through www.regulations.gov your email address will be captured automatically and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: John Sottong, Climate Protection Partnerships Division, Office of Atmospheric Programs, (6202J), Environmental Protection Agency, 1200 Pennsylvania Ave. NW., Washington, DC 20460; telephone number: (202) 343-9397; fax number: (202) 343-2208; email address: sottong.john@epa.gov.

SUPPLEMENTARY INFORMATION:

How can I access the docket and/or submit comments?

EPA has established a public docket for this ICR under Docket ID No. EPA-HQ-OAR-2011-0940, which is available for online viewing at http://www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Air and Radiation Docket is (202) 566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You also may provide the name, date, and Federal Register citation.

To what information collection activity or ICR does this apply?

Affected entities: Entities potentially affected by this action are participants in the U.S. EPA and U.S. GSA Federal Supplier Greenhouse Gas Emissions Inventory Pilot started during EPA's Climate Leaders Program.

Title: Reporting Requirements Under EPA's Climate Leaders Partnership (Renewal).

ICR numbers: EPA ICR No. 2100.05, OMB Control No. 2060-0532.

ICR status: This ICR is currently scheduled to expire on April 30, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: On September 30, 2011, the U.S. Environmental Protection Agency officially ended its Climate Leaders program. One element of the Climate Leaders program was the Small Business Network (SBN) which offered small businesses tools and resources to assist them with managing and reducing their GHG emissions. In direct response to E.O. 13514, EPA and the U.S. General Services Administration (GSA) utilized the Climate Leaders SBN as the foundation to launch the Federal Supplier Greenhouse Gas Emissions Inventory Pilot (“the Pilot”) in August 2010 to assess the benefits and challenges experienced by small businesses in completing and reporting a GHG emissions inventory. The Pilot is a voluntary, three-year program in which small businesses are required to develop annual GHG emissions inventories through September 2013. The small businesses are also required to develop and implement GHG emissions reductions strategies and review their progress towards meeting their reduction goals and the associated benefits. Through this interagency agreement, EPA continues to support the Pilot with education and technical assistance. EPA has developed this renewal ICR to ensure that the Pilot remains credible by obtaining continued authorization to collect information from its participants to ensure that they are meeting their GHG goals. Companies that joined the Pilot voluntarily agree to the following: Setting a corporate GHG reduction goal; submitting a GHG inventory management plan; reporting to EPA, on an annual basis, the company's GHG emissions inventory, and progress toward their GHG reduction goal via the Annual GHG Inventory Summary and Goal Tracking Form. The information contained in the inventories of the companies that participate in the Pilot may be considered confidential business information and is maintained as such. EPA uses the data obtained from the companies to assess the success of the Pilot in achieving its goals and to identify the type of outreach, training, and other direct assistance and incentives that will help small business federal suppliers meet the objectives of E.O. 13514. Responses to the information collection are voluntary.

Burden Statement: The annual public reporting and recordkeeping burden for this collection of information is estimated to average 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: Responses are expected from the 46 small businesses participating in the joint EPA-GSA Federal Supplier Greenhouse Gas Emissions Inventory Pilot.

Frequency of response: The companies will be required to submit one response annually.

Estimated total average number of responses for each respondent: One response will be received from each respondent per year.

Estimated total annual burden hours: 1,840 hours.

Estimated total annual costs: $171,810. This includes an estimated burden cost of $171,810 and an estimated cost of $0.00 for capital investment or maintenance and operational costs.

Are there changes in the estimates from the last approval?

There is a decrease of 17,796 hours in the total estimated respondent burden compared with that identified in the ICR currently approved by OMB. This decrease reflects EPA's phase down of the Climate Leaders program on September 30, 2011. As a result, the number of respondents to this ICR decreased to include only those 46 small businesses participating in the joint EPA-GSA Federal Supplier Greenhouse Gas Emissions Inventory Pilot.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: November 21, 2011.
Elizabeth Craig,
Director, Climate Protection Partnerships Division.

[FR Doc. 2011-30850 Filed 11-29-11; 8:45 am]

BILLING CODE 6560-50-P